DEPARTMENT OF HEALTH AND HUMAN SERVICES

Indian Health Service

Organization, Function, and Delegations of Authority; Part G; Proposed Functional Statement

AGENCY: Indian Health Service, HHS.

ACTION: Notice of change in name of an organizational component.

SUMMARY: The Indian Health Service is announcing the name change of the Aberdeen Area Indian Health Service to the Great Plains Area Indian Health Service at the request of Tribes served by the Aberdeen Area Indian Health Service.

FOR FURTHER INFORMATION CONTACT: Ms. Mona Galpin, Office of Management Services, Management Policy and Internal Control Staff, 801 Thompson Avenue, TMP Suite 625A, Rockville, MD 20852, Telephone 301-443-2650.

Section GF-10, Indian Health Service Area Offices—Organization

An Area Office is a second echelon organization under the direction of an Area Director, who reports to the IHS Director.

Indian Health Service Area Offices of the Indian Health Service in alphabetical order:

• Alaska Area Office (GFB)

• Albuquerque Area Office (GFC)

• Bemidji Area Office (GFE)

• Billings Area Office (GFF)

• California Area Office (GFG)

• Great Plains Area Office (GFA)

• Nashville Area Office (GFH)

• Navajo Area Office (GFJ)

• Oklahoma Area Office (GFK)

• Phoenix Area Office (GFL)

• Portland Area Office (GFM)

• Tucson Area Office (GFN)

Dated: December 6, 2013.
Yvette Roubideaux,
Acting Director, Indian Health Service.

[FR Doc. 2014-00264 Filed 1-9-14; 8:45 am]

BILLING CODE 4165-16-P